DEPARTMENT OF COMMERCE

National Oceanic and Atmospheric Administration

[I.D. 011204A]

RIN 0648-AN16

Magnuson-Stevens Fishery Conservation and Management Act Provisions; Fisheries of the Northeastern United States; Atlantic Sea Scallop Fishery; Amendment 10

AGENCY: National Marine Fisheries Service (NMFS), National Oceanic and Atmospheric Administration (NOAA), Commerce.

ACTION: Notice of partial approval of a fishery management plan amendment.

SUMMARY: NMFS announces that Amendment 10 to the Atlantic Sea Scallop Fishery Management Plan (Amendment 10) has been partially approved by NMFS, acting on behalf of the Secretary of Commerce. Amendment 10 was developed by the New England Fishery Management Council to establish a long-term, comprehensive program to maximize scallop yield and implement a suite of management measures intended to make the management program more effective and flexible. The intent of this announcement is to inform the public of the partial approval of Amendment 10 and of the availability of the Record of Decision (ROD) for Amendment 10 in compliance with the National Environmental Policy Act (NEPA).

DATES: Amendment 10 was partially approved on April 14, 2004.

ADDRESSES: Copies of the ROD may be obtained from the Patricia Kurkul, Regional Administrator, National Marine Fisheries Service, One Blackburn Drive, Gloucester, MA 01930 or from the Northeast Regional Office's website at http://www.nero.noaa.gov.

FOR FURTHER INFORMATION CONTACT: Peter Christopher, Fishery Policy Analyst, 978-281-9288, fax: 978-281-9135; email: peter.christopher@noaa.gov.

SUPPLEMENTARY INFORMATION: A Notice of Availability for Amendment 10 was published on January 16, 2004 (69 FR 2561) that announced NMFS review of Amendment 10 under the Magnuson-Stevens Fishery Conservation and Management Act. The public comment period on the NOA ended on March 15, 2004. Thirteen comments in response to the NOA were received. A proposed rule to implement Amendment 10 was published in the Federal Register on February 26, 2004 (69 FR 8915), with public comment ending on March 29, 2004. A total of 27 comments were received on the proposed rule. A summary of the comments received and NMFS's responses to those comments will be published in the final rule.

On April 14, 2004, NMFS approved all measures in Amendment 10 with the exception of the following proposed measures, which have been disapproved: (1) Possession restriction on Limited Access scallop vessels fishing outside of scallop days at sea; and a (2) cooperative industry resource survey program. A full explanation of the reasons for disapproval will be included in the final rule implementing Amendment 10. Regulatory provisions implementing the approved measures will not become effective until the implementation of the final rule. NMFS anticipates that the final rule will be published in the near future.

In compliance with NEPA, the public is informed that the ROD for Amendment 10 is available on the NMFS website at http://www.nero.noaa.gov or may be obtained from the Regional Administrator (see ADDRESSES).

Authority: 16 U.S.C. 1801 et seq.

Dated: April 26, 2004.
Rebecca Lent,
Deputy Assistant Administrator for Regulatory Programs, National Marine Fisheries Service.

[FR Doc. 04-9779 Filed 4-29-04; 8:45 am]

BILLING CODE 3510-22-S